DEPARTMENT OF LABOR

Occupational Safety and Health Administration

29 CFR Part 1910

Process Safety Management of Highly Hazardous Chemicals and Slings

AGENCY: Occupational Safety and Health Administration (OSHA), Labor.

ACTION: Final rule; technical amendments.

SUMMARY: OSHA is issuing technical amendments for minor corrections to the Process Safety Management of Highly Hazardous Chemicals and Slings standards.

DATES: Effective on April 15, 2019.

FOR FURTHER INFORMATION CONTACT:

Press inquiries: Frank Meilinger, Director, OSHA Office of Communications; telephone: (202) 693-1999; email: meilinger.francis2@dol.gov.

General and technical information: Lisa Long, Director, Office of Engineering Safety, OSHA Directorate of Standards and Guidance; telephone: (202) 693-2222; email: long.lisa@dol.gov.

SUPPLEMENTARY INFORMATION:

I. Summary and Explanation

Process Safety Management of Highly Hazardous Chemicals (§ 1910.1119)

Appendix A of the Process Safety Management (PSM) standard (§ 1910.1119) contains the “List of Highly Hazardous Chemicals, Toxics and Reactives.” A typographical error was recently discovered in the Chemical Abstract Service (“CAS”) number for the chemical “Methyl Vinyl Ketone.” The published version of the standard incorrectly lists the CAS number as “79-84-4;” the correct CAS number is “78-94-4.” The error first appears in the proposed rule of the standard (55 FR 29167, July 17, 1990). It should be noted that the incorrect CAS number, “79-84-4,” is not a valid CAS number and does not represent a different chemical. The error is that the numerals eight and nine of the CAS number for methyl vinyl ketone were accidentally switched when publishing the proposed rule. That error was repeated in the final rule (57 FR 6407, Feb. 24, 1991).

OSHA is correcting 29 CFR 1910.119 Process Safety Management of Highly Hazardous Chemicals to correct the CAS number for methyl vinyl ketone in Appendix A of the standard.

Slings (§ 1910.184)

On June 8, 2011, OSHA updated its standards regulating slings for general industry (§ 1910.184); shipyard employment (§§ 1915.112, 1915.113, and 1915.118), and construction (§ 1926.251). Modifications to these standards included removal of previous load capacity tables (§ 1910.184, tables N-184-1, N-184-3 through N-184-22; and G-1 through G-5, G-7, G-8, and G-10) and references to these tables (§ 1915.112; § 1915.113; and § 1926.251; tables H-1 and H-3 through H-19). The updated rule now requires employers to use slings with permanently affixed identification markings that depict the maximum load capacity. The final rule also provides similar protection for shackles in §§ 1915.113 and 1926.251.

OSHA is correcting 29 CFR 1910.184 Slings to restore two figures, Figure N-184-4 and Figure N-184-5,that were inadvertently removed by amendments published on June 8, 2011 (76 FR 33590; effective July 8, 2011). Figure N-184-4 shows the basic sling configurations with vertical legs. Figure N-184-5 shows the basic sling configurations with angled legs. Both of these figures are referenced in section (b) definitions of the standard and should not have been removed.

II. Exemption From Notice-and-Comment Procedures

OSHA determined that this rulemaking is not subject to the procedures for public notice and comment specified in Section 4 of the Administrative Procedures Act (5 U.S.C. 553), Section 6(b) of the Occupational Safety and Health Act of 1970 (29 U.S.C. 655(b)), and 29 CFR 1911.5. This rulemaking only corrects a minor typographical error and the erroneous deletion of illustrative figures and does not affect or change any existing rights or obligations. No stakeholder is likely to object to these corrections. Therefore, the agency finds good cause that public notice and comment are unnecessary within the meaning of 5 U.S.C. 553(b)(3)(B), 29 U.S.C. 655(b), and 29 CFR 1911.5.

List of Subjects in 29 CFR Part 1910

Process Safety Management of Highly Hazardous Chemicals; Slings.

Authority and Signature

Loren Sweatt, Acting Assistant Secretary of Labor for Occupational Safety and Health, authorized the preparation of this document pursuant to 29 U.S.C. 653,655, and 657, Secretary's Order 1-2012 (77 FR 3912; Jan. 25, 2012), and 29 CFR part 1911.

Signed at Washington, DC, on April 4, 2019.
Loren Sweatt,
Acting Assistant Secretary of Labor for Occupational Safety and Health.

Accordingly, OSHA is correcting 29 CFR part 1910 with the following technical amendments:

PART 1910—OCCUPATIONAL SAFETY AND HEALTH STANDARDS

Subpart H—Hazardous Materials

1. The authority citation for subpart H of part 1910 continues to read as follows:

Authority: Sections 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2007 (72 FR 31159), 4-2010 (75 FR 55355) or 1-2012 (77 FR 3912), as applicable; and 29 CFR part 1911.Sections 1910.103, 1910.106 through 1910.111, and 1910.119, 1910.120, and 1910.122 through 1910.126 also issued under 29 CFR part 1911.

Section 1910.119 also issued under Section 304, Clean Air Act Amendments of 1990 (Pub. L. 101-549), reprinted at 29 U.S.C.A. 655 Note.

Section 1910.120 also issued under Section 126, Superfund Amendments and Reauthorization Act of 1986 as amended (29 U.S.C.A. 655 Note), and 5 U.S.C. 553.

2. In § 1910.119, revise appendix A to read as follows:

§ 1910.119 Process safety management of highly hazardous chemicals.

* * * * *

Appendix A to § 1910.119—List of Highly Hazardous Chemicals, Toxics and Reactives (Mandatory)

This appendix contains a listing of toxic and reactive highly hazardous chemicals which present a potential for a catastrophic event at or above the threshold quantity.

Chemical name | CAS * | TQ **
Acetaldehyde | 75-07-0 | 2500
Acrolein (2-Propenal) | 107-02-8 | 150
Acrylyl Chloride | 814-68-6 | 250
Allyl Chloride | 107-05-1 | 1000
Allylamine | 107-11-9 | 1000
Alkylaluminums | Varies | 5000
Ammonia, Anhydrous | 7664-41-7 | 10000
Ammonia solutions (>44% ammonia by weight) | 7664-41-7 | 15000
Ammonium Perchlorate | 7790-98-9 | 7500
Ammonium Permanganate | 7787-36-2 | 7500
Arsine (also called Arsenic Hydride) | 7784-42-1 | 100
Bis(Chloromethyl) Ether | 542-88-1 | 100
Boron Trichloride | 10294-34-5 | 2500
Boron Trifluoride | 7637-07-2 | 250
Bromine | 7726-95-6 | 1500
Bromine Chloride | 13863-41-7 | 1500
Bromine Pentafluoride | 7789-30-2 | 2500
Bromine Trifluoride | 7787-71-5 | 15000
3-Bromopropyne (also called Propargyl Bromide) | 106-96-7 | 100
Butyl Hydroperoxide (Tertiary) | 75-91-2 | 5000
Butyl Perbenzoate (Tertiary) | 614-45-9 | 7500
Carbonyl Chloride (see Phosgene) | 75-44-5 | 100
Carbonyl Fluoride | 353-50-4 | 2500
Cellulose Nitrate (concentration >12.6% nitrogen) | 9004-70-0 | 2500
Chlorine | 7782-50-5 | 1500
Chlorine Dioxide | 10049-04-4 | 1000
Chlorine Pentrafluoride | 13637-63-3 | 1000
Chlorine Trifluoride | 7790-91-2 | 1000
Chlorodiethylaluminum (also called Diethylaluminum Chloride) | 96-10-6 | 5000
1-Chloro-2,4-Dinitrobenzene | 97-00-7 | 5000
Chloromethyl Methyl Ether | 107-30-2 | 500
Chloropicrin | 76-06-2 | 500
Chloropicrin and Methyl Bromide mixture | None | 1500
Chloropicrin and Methyl Chloride mixture | None | 1500
Cumene Hydroperoxide | 80-15-9 | 5000
Cyanogen | 460-19-5 | 2500
Cyanogen Chloride | 506-77-4 | 500
Cyanuric Fluoride | 675-14-9 | 100
Diacetyl Peroxide (Concentration >70%) | 110-22-5 | 5000
Diazomethane | 334-88-3 | 500
Dibenzoyl Peroxide | 94-36-0 | 7500
Diborane | 19287-45-7 | 100
Dibutyl Peroxide (Tertiary) | 110-05-4 | 5000
Dichloro Acetylene | 7572-29-4 | 250
Dichlorosilane | 4109-96-0 | 2500
Diethylzinc | 557-20-0 | 10000
Diisopropyl Peroxydicarbonate | 105-64-6 | 7500
Dilaluroyl Peroxide | 105-74-8 | 7500
Dimethyldichlorosilane | 75-78-5 | 1000
Dimethylhydrazine, 1,1- | 57-14-7 | 1000
Dimethylamine, Anhydrous | 124-40-3 | 2500
2,4-Dinitroaniline | 97-02-9 | 5000
Ethyl Methyl Ketone Peroxide (also Methyl Ethyl Ketone Peroxide; concentration >60%) | 1338-23-4 | 5000
Ethyl Nitrite | 109-95-5 | 5000
Ethylamine | 75-04-7 | 7500
Ethylene Fluorohydrin | 371-62-0 | 100
Ethylene Oxide | 75-21-8 | 5000
Ethyleneimine | 151-56-4 | 1000
Fluorine | 7782-41-4 | 1000
Formaldehyde (Formalin) | 50-00-0 | 1000
Furan | 110-00-9 | 500
Hexafluoroacetone | 684-16-2 | 5000
Hydrochloric Acid, Anhydrous | 7647-01-0 | 5000
Hydrofluoric Acid, Anhydrous | 7664-39-3 | 1000
Hydrogen Bromide | 10035-10-6 | 5000
Hydrogen Chloride | 7647-01-0 | 5000
Hydrogen Cyanide, Anhydrous | 74-90-8 | 1000
Hydrogen Fluoride | 7664-39-3 | 1000
Hydrogen Peroxide (52% by weight or greater) | 7722-84-1 | 7500
Hydrogen Selenide | 7783-07-5 | 150
Hydrogen Sulfide | 7783-06-4 | 1500
Hydroxylamine | 7803-49-8 | 2500
Iron, Pentacarbonyl | 13463-40-6 | 250
Isopropylamine | 75-31-0 | 5000
Ketene | 463-51-4 | 100
Methacrylaldehyde | 78-85-3 | 1000
Methacryloyl Chloride | 920-46-7 | 150
Methacryloyloxyethyl Isocyanate | 30674-80-7 | 100
Methyl Acrylonitrile | 126-98-7 | 250
Methylamine, Anhydrous | 74-89-5 | 1000
Methyl Bromide | 74-83-9 | 2500
Methyl Chloride | 74-87-3 | 15000
Methyl Chloroformate | 79-22-1 | 500
Methyl Ethyl Ketone Peroxide (concentration >60%) | 1338-23-4 | 5000
Methyl Fluoroacetate | 453-18-9 | 100
Methyl Fluorosulfate | 421-20-5 | 100
Methyl Hydrazine | 60-34-4 | 100
Methyl Iodide | 74-88-4 | 7500
Methyl Isocyanate | 624-83-9 | 250
Methyl Mercaptan | 74-93-1 | 5000
Methyl Vinyl Ketone | 78-94-4 | 100
Methyltrichlorosilane | 75-79-6 | 500
Nickel Carbonly (Nickel Tetracarbonyl) | 13463-39-3 | 150
Nitric Acid (94.5% by weight or greater) | 7697-37-2 | 500
Nitric Oxide | 10102-43-9 | 250
Nitroaniline (para Nitroaniline | 100-01-6 | 5000
Nitromethane | 75-52-5 | 2500
Nitrogen Dioxide | 10102-44-0 | 250
Nitrogen Oxides (NO; NO2; N204; N203) | 10102-44-0 | 250
Nitrogen Tetroxide (also called Nitrogen Peroxide) | 10544-72-6 | 250
Nitrogen Trifluoride | 7783-54-2 | 5000
Nitrogen Trioxide | 10544-73-7 | 250
Oleum (65% to 80% by weight; also called Fuming Sulfuric Acid) | 8014-95-7 | 1,000
Osmium Tetroxide | 20816-12-0 | 100
Oxygen Difluoride (Fluorine Monoxide) | 7783-41-7 | 100
Ozone | 10028-15-6 | 100
Pentaborane | 19624-22-7 | 100
Peracetic Acid (concentration >60% Acetic Acid; also called Peroxyacetic Acid) | 79-21-0 | 1000
Perchloric Acid (concentration >60% by weight) | 7601-90-3 | 5000
Perchloromethyl Mercaptan | 594-42-3 | 150
Perchloryl Fluoride | 7616-94-6 | 5000
Peroxyacetic Acid (concentration >60% Acetic Acid; also called Peracetic Acid) | 79-21-0 | 1000
Phosgene (also called Carbonyl Chloride) | 75-44-5 | 100
Phosphine (Hydrogen Phosphide) | 7803-51-2 | 100
Phosphorus Oxychloride (also called Phosphoryl Chloride) | 10025-87-3 | 1000
Phosphorus Trichloride | 7719-12-2 | 1000
Phosphoryl Chloride (also called Phosphorus Oxychloride) | 10025-87-3 | 1000
Propargyl Bromide | 106-96-7 | 100
Propyl Nitrate | 627-3-4 | 2500
Sarin | 107-44-8 | 100
Selenium Hexafluoride | 7783-79-1 | 1000
Stibine (Antimony Hydride) | 7803-52-3 | 500
Sulfur Dioxide (liquid) | 7446-09-5 | 1000
Sulfur Pentafluoride | 5714-22-7 | 250
Sulfur Tetrafluoride | 7783-60-0 | 250
Sulfur Trioxide (also called Sulfuric Anhydride) | 7446-11-9 | 1000
Sulfuric Anhydride (also called Sulfur Trioxide) | 7446-11-9 | 1000
Tellurium Hexafluoride | 7783-80-4 | 250
Tetrafluoroethylene | 116-14-3 | 5000
Tetrafluorohydrazine | 10036-47-2 | 5000
Tetramethyl Lead | 75-74-1 | 1000
Thionyl Chloride | 7719-09-7 | 250
Trichloro (chloromethyl) Silane | 1558-25-4 | 100
Trichloro (dichlorophenyl) Silane | 27137-85-5 | 2500
Trichlorosilane | 10025-78-2 | 5000
Trifluorochloroethylene | 79-38-9 | 10000
Trimethyoxysilane | 2487-90-3 | 1500
* Chemical Abstract Service Number.
** Threshold Quantity in Pounds (Amount necessary to be covered by this standard).

* * * * *

Subpart N—Materials Handling and Storage

3. The authority citation for subpart N of part 1910 continues to read as follows:

Authority: 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31159), 4-2010 (75 FR 55355), or 1-2012 (77 FR 3912), as applicable; and 29 CFR part 1911.

4. In § 1910.184, add Figures N-184-4 and N-184-5 immediately after Figure N-184-3 to read as follows:

§ 1910.184 Slings.

* * * * *

BILLING CODE 4510-26-P

* * * * *

[FR Doc. 2019-07286 Filed 4-12-19; 8:45 am]

BILLING CODE 4510-26-C